DEPARTMENT OF HEALTH AND HUMAN SERVICES

National Institutes of Health

NIH Pathways to Prevention Workshop: Total Worker Health®—What's Work Got To Do With It?

SUMMARY: The National Institutes of Health (NIH) will host a workshop about Total Worker Health® on December 9-10, 2015. The workshop is free and open to the public.

DATES: December 9, 2015, from 8:30 a.m.-1:30 p.m. and December 10, 2015, from 8:30 a.m.-3:30 p.m.

ADDRESSES: The workshop will be held at the NIH, Masur Auditorium, Building 10 (Clinical Center), 9000 Rockville Pike, Bethesda, Maryland 20892. Registration and workshop information are available on the NIH Office of Disease Prevention (ODP) Web site at https://prevention.nih.gov/twh.

FOR FURTHER INFORMATION CONTACT: For further information concerning this workshop, contact the ODP at prevention@mail.nih.gov, 6100 Executive Blvd., Room 2B03, MSC 7523, Bethesda, MD 20892-7523; Telephone: 301-496-1508; FAX: 301-480-7660.

SUPPLEMENTARY INFORMATION: A Total Worker Health (TWH) approach is defined as policies, programs, and practices that integrate protection from work-related safety and health hazards with promotion of injury and illness prevention efforts to advance worker well-being. National Institute for Occupational Safety and Health (NIOSH) launched the Total Worker Health program to improve worker health and workplace safety.

One hundred forty-five million Americans are workers, and most spend at least 50% of their active time at the workplace. Despite improvements in occupational safety and health over the last several decades, workers continue to suffer work-related illnesses, injuries, and deaths. In 2007, it is estimated that there were over 53,000 deaths caused by work-related illnesses, and the estimated total cost of occupational injuries, illnesses, and fatalities was $250 billion. Furthermore, according to the Bureau of Labor Statistics, in 2013, more than 4,500 U.S. workers died from work-related injuries, and more than 3 million workers had a nonfatal occupational injury or illness. Also in 2013, according to the NIOSH, 2.8 million workers were treated in emergency departments for occupational injuries and illnesses, and approximately 140,000 workers were hospitalized.

TWH builds upon a foundation of protecting workers from work-related exposures and hazards by championing a holistic understanding of the myriad of factors that influence safety, health, and well-being. An integrated approach recognizes that risk factors in the workplace can contribute to many health problems previously considered unrelated to work, including cardiovascular disease, obesity, depression, and sleep disorders. With wide variation in the landscape of the workplace (e.g., workplace culture, organization of work, working conditions, size of the employer) and the workforce (e.g., age, gender, access to preventive health care), this often translates to diversity in the safety and health risks for each industry sector and the need for tailored, comprehensive interventions.

Traditionally, workplace systems addressing worker safety, health, and well-being have operated separately. An integrated approach would address the overall influences that the nature and conditions of the work itself (e.g., stress levels, work schedules, trip or fall hazards) have on worker health. TWH promotes the integration of diverse relevant programs, including occupational safety and health, worksite health, disability management, workers' compensation, and human resource benefits. There is evidence that combining efforts through integrated workplace interventions helps safeguard the well-being of workers.

Although the benefits and synergistic possibilities of an integrated approach may seem obvious, integrated programs have not been sufficiently validated by the current research. To better understand the benefits of an integrated approach, the NIH will engage in a rigorous assessment of the available scientific evidence. The NIOSH, the National Heart, Lung, and Blood Institute, and the NIH Office of Disease Prevention (ODP) are sponsoring the December 9-10, 2015, Pathways to Prevention Workshop: Total Worker Health®—What's Work Got to Do With It? The workshop will evaluate the current state of knowledge on integrated approaches to worker safety, health, and well-being and will plot the direction for future research. Specifically, the workshop will seek to clarify the following questions:

• What studies exist assessing integrated interventions?

• What are the known benefits and harms of integrated interventions?

• What are the characteristics of effective integrated/combined interventions and programs?

• What factors influence the effectiveness of integrated interventions?

• What are the key evidence gaps?

Initial planning for each Pathways to Prevention workshop, regardless of the topic, is coordinated by a Content-Area Expert Group that nominates panelists and speakers and develops and finalizes questions that frame the workshop. After the questions are finalized, an evidence report is prepared by an Evidence-based Practice Center, through a contract with the Agency for Healthcare Research and Quality. During the 1½-day workshop, invited experts discuss the body of evidence, and attendees provide comments during open discussion periods. After weighing evidence from the evidence report, expert presentations, and public comments, an unbiased, independent panel prepares a draft report that identifies research gaps and future research priorities. The draft report is posted on the ODP Web site for public comment. After reviewing the public comments, the panel prepares a final report, which is also posted on the ODP Web site. Approximately 6-8 months after the workshop, the ODP convenes a Federal Partners Meeting to review the panel report and identify possible opportunities for collaboration.

Please Note: As part of measures to ensure the safety of the NIH employees and property, all visitors must be prepared to show a photo ID upon request. Visitors may be required to pass through a metal detector and have bags, backpacks, or purses inspected or x-rayed as they enter the NIH campus. For more information about the security measures at NIH, please visit http://www.nih.gov/about/visitorsecurity.htm.

Dated: October 22, 2015.
Lawrence A. Tabak,
Deputy Director, National Institutes of Health.

[FR Doc. 2015-27627 Filed 10-28-15; 8:45 am]

BILLING CODE 4140-01-P